SECURITIES AND EXCHANGE COMMISSION

Sunshine Act Meeting; Cancellation

FEDERAL REGISTER CITATION OF PREVIOUS ANNOUNCEMENT: 87 FR 11493, March 1, 2022.

PREVIOUSLY ANNOUNCED TIME AND DATE OF THE MEETING: Thursday March 3, 2022 at 2 p.m.

CHANGES IN THE MEETING: The Closed Meeting scheduled for Thursday, March 3, 2022 at 2 p.m., has been cancelled.

CONTACT PERSON FOR MORE INFORMATION: For further information; please contact Vanessa A. Countryman from the Office of the Secretary at (202) 551-5400.

Authority: 5 U.S.C. 552b.

Dated: March 2, 2022.
Vanessa A. Countryman,
Secretary.

[FR Doc. 2022-04823 Filed 3-3-22; 11:15 am]

BILLING CODE 8011-01-P